DEPARTMENT OF STATE

[Public Notice: 10427]

Notice of Intent To Prepare an Environmental Assessment for the Proposed Keystone XL Pipeline Mainline Alternative Route in Nebraska

AGENCY: Department of State.

ACTION: Notice of intent.

SUMMARY: On November 20, 2017, the Nebraska Public Service Commission approved the Mainline Alternative Route in Nebraska. The Department issues this Notice of Intent (NOI) to announce that it will prepare an Environmental Assessment (EA)—consistent with the National Environmental Policy Act (NEPA) of 1969—to evaluate the potential environmental impacts of the Mainline Alternative Route in support of the Bureau of Land Management's review of TransCanada's application for a right-of-way. This NOI solicits participation and comment from interested federal, tribal, state, and local government entities, as well as members of the public, to help inform EA scope and content.

DATES: The Department invites members of the public, government agencies, tribal governments, and all other interested parties to comment on the scope of the EA during the 30-day public scoping period. Comments are due by June 25, 2018.

Please note that all comments received during the scoping period may be publicized. Comments will be neither private nor edited to remove either identifying or contact information. Commenters should omit information that they do not want disclosed. Any party who will either solicit or aggregate other people's comments should convey this cautionary message.

ADDRESSES: Comments may be submitted at https://www.regulations.gov by entering the title of this Notice into the search field, and then following the prompts. Comments also may be submitted by mail, addressed to: Ms. Jill Reilly, Office of Environmental Quality and Transboundary Issues, OES/EQT, Room 2727, U.S. Department of State, 2201 C Street NW, Washington, DC 20520.

Please note that all comments provided by agencies and organizations should list a designated contact person.

SUPPLEMENTARY INFORMATION: On January 26, 2017, TransCanada resubmitted its Presidential Permit application for the proposed Keystone XL pipeline. Subsequently, on March 23, 2017, the Under Secretary of State for Political Affairs determined that issuance of a Presidential Permit to TransCanada to construct, connect, operate, and maintain at the border of the United States pipeline facilities to transport crude oil from Canada to the United States would serve the U.S. national interest. Accordingly, the Under Secretary issued a Presidential Permit to TransCanada. TransCanada's application to BLM for a right-of-way remains pending before the agency.

FOR FURTHER INFORMATION CONTACT: Ms. Jill Reilly, Acting NEPA Coordinator, Office of Environmental Quality and Transboundary Issues, (202) 647-9798, reillyje@state.gov.

Detailed records on the proposed project, along with general information about the Presidential Permit process, are available at: https://keystonepipeline-xl.state.gov.

Brian P. Doherty,
Director, Office of Environmental Quality and Transboundary Issues, Department of State.

[FR Doc. 2018-11240 Filed 5-24-18; 8:45 am]

BILLING CODE 4710-09-P